DEPARTMENT OF COMMERCE

International Trade Administration

[A-549-502]

Circular Welded Carbon Steel Pipes and Tubes From Thailand: Final Results of Antidumping Duty Administrative Review

AGENCY: Import Administration, International Trade Administration, Department of Commerce.

SUMMARY: On April 13, 2010, the Department of Commerce (the Department) published the preliminary results of administrative review of the antidumping duty order on circular welded carbon steel pipes and tubes (pipes and tubes) from Thailand. The review was requested by Allied Tube and Conduit Corporation (Allied Tube), by Wheatland Tube Company (Wheatland) (collectively, domestic interested parties or petitioners), and by Saha Thai Steel Pipe (Public) Company Ltd. (Saha Thai) (respondent). This review covers one producer/exporter of the subject merchandise, Saha Thai. The period of review (POR) is March 1, 2008 through February 28, 2009. Based on the results of verification and our analysis of the comments received, we have made changes to the preliminary results, which are discussed in the “Changes Since the Preliminary Results” section below. For the final dumping margins, see the “Final Results of Review” section below.

DATES: Effective Date: October 20, 2010.

FOR FURTHER INFORMATION CONTACT: Myrna Lobo or Jacqueline Arrowsmith, AD/CVD Operations, Office 6, Import Administration, International Trade Administration, U.S. Department of Commerce, 14th Street & Constitution Avenue, NW., Washington, DC 20230; telephone: (202) 482-2371 or (202) 482-5255, respectively.

SUPPLEMENTARY INFORMATION:

Background

On April 13, 2010, the Department published in the Federal Register the preliminary results of administrative review of the antidumping duty order on pipes and tubes from Thailand. See Circular Welded Carbon Steel Pipes and Tubes from Thailand: Preliminary Results and Rescission, in Part, of Antidumping Duty Administrative Review, 75 FR 18788 (April 13, 2010) (Preliminary Results).

In the Preliminary Results, the Department stated that its decision to apply the quarterly cost methodology and to perform quarterly price-to-price comparisons raised a novel issue with respect to the level of trade (LOT) analysis of the pattern of price differences and any possible LOT adjustment warranted by that analysis. The Department, therefore, invited parties to comment on whether the application of the quarterly cost methodology necessarily requires an evaluation on a quarterly basis of the pattern of price differences and how any such differences should be analyzed. Parties were also invited to comment on whether, if a pattern of price differences is found to exist, any LOT adjustment should be done on a yearly basis or on a quarterly basis. On April 23, 2010, the Department received comments from Saha Thai.

On May 4, 2010 we revised the due dates for comments on the Preliminary Results, due to the anticipated timing of verification, and informed parties of the same. The Department conducted a verification of Saha Thai's questionnaire responses in Bangkok, Thailand, from July 12, 2010 through July 23, 2010. See “Verification” section below.

On August 20, 2010 we informed parties of the deadlines to comment on the Preliminary Results and verification reports and requested Saha Thai to submit revised sales databases in view of the minor corrections presented at verification. On August 23, 2010 Saha Thai submitted its revised sales databases. On August 27, 2010 we received a timely case brief from Saha Thai, and on September 1, 2010, we received a timely rebuttal brief from Allied Tube on behalf of domestic interested parties. The Department did not receive a request for a hearing.

On May 21, 2010, the Department extended the deadline for issuing the final results until no later than October 12, 2010. See Circular Welded Carbon Steel Pipes and Tubes from Thailand: Extension of Time Limit for Final Results of Antidumping Duty Administrative Review, 75 FR 28557 (May 21, 2010). On October 12, 2010, the Department tolled the deadline for the final results by one day, to October 13, 2010, due to the occurrence of a fire and the closure of the main Commerce building on Friday, October 8, 2010.

Period of Review

The period of review (POR) is March 1, 2008 through February 28, 2009.

Scope of the Order

The products covered by this antidumping order are certain welded carbon steel pipes and tubes from Thailand. The subject merchandise has an outside diameter of 0.375 inches or more, but not exceeding 16 inches. These products, which are commonly referred to in the industry as “standard pipe” or “structural tubing” are hereinafter designated as “pipes and tubes.” The merchandise is classifiable under the Harmonized Tariff Schedule of the United States (HTSUS) item numbers 7306.30.1000, 7306.30.5025, 7306.30.5032, 7306.30.5040, 7306.30.5055, 7306.30.5085 and 7306.30.5090. Although the HTSUS subheadings are provided for the convenience and purposes of CBP, our written description of the scope is dispositive.

Verification

As provided in section 782(i) of the Tariff Act of 1930, as amended (“the Act”), from July 12 through July 23, 2010, the Department verified the cost and sales information submitted by Saha Thai in its questionnaire responses provided during the course of this review. We used standard verification procedures including examination of relevant accounting and production records, and original source documents provided by the respondent. See Memorandum from Heidi Schriefer, Senior Accountant, to The File, “Verification of the Cost Response of Saha Thai Steel Pipe (Public) Company, Limited, in the Antidumping Duty Administrative Review of Circular Welded Carbon Steel Pipes and Tubes from Thailand,” dated August 17, 2010 (“Cost Verification Report”); see also Memorandum from Jacqueline Arrowsmith and Myrna Lobo, International Trade Compliance Analysts, to The File, “Verification of the Sales Response of Saha Thai Steel Pipe (Public) Co., Ltd. in the Antidumping Review of Circular Welded Carbon Steel Pipes and Tubes from Thailand,” dated August 18, 2010 (“Sales Verification Report”). The public versions of both verification reports are on file in the Central Records Unit (CRU), Room 7046 of the main Commerce Building.

Analysis of Comments Received

The issues raised in the case and rebuttal briefs by parties to this administrative review are addressed in the Memorandum from Susan H. Kuhbach, Acting Deputy Assistant Secretary for Antidumping and Countervailing Duty Operations, to Ronald K. Lorentzen, Assistant Secretary for Import Administration, “Issues and Decision Memorandum for the Final Results of the Administrative Review of the Antidumping Duty Order on Circular Welded Carbon Steel Pipes and Tubes from Thailand” (Decision Memorandum), dated concurrently with this notice and which is hereby adopted by this notice. A list of the issues addressed in the Decision Memorandum is appended to this notice. The Decision Memorandum is on file in the CRU, and can be accessed directly on the Web at http://ia.ita.doc.gov/frn. The paper copy and electronic version of the Decision Memorandum are identical in content.

Changes Since the Preliminary Results

Based on the results of verification and our analysis of comments received, we have made adjustments to our margin calculations. At the preliminary results, we made an adjustment under section 773(f)(2) of the Act, the “transactions disregarded rule,” to Saha Thai's purchases of coils from an affiliated party. We have now determined that record evidence shows that these transactions were made at arm's length prices, and thus we are not making any adjustment under section 773(f)(2) of the Act for the final results. In addition, we have revised the general and administrative and financial expense rates by no longer adjusting the cost of goods sold denominator to reflect an adjustment for the transactions disregarded rule. Further, we have revised the financial expense rate calculation from the preliminary results to exclude interest income generated from long-term assets. We have revised the calculation of the total cost of manufacturing from the preliminary results to exclude the “other materials” (“OTHMAT”) field. We have determined that this field serves only as a subtotal of other material costs; therefore, the inclusion of both the individual other material cost fields and the “OTHMAT” field double counts these costs. We have also revised the calculation of the cost of production to exclude the “DUTY” field because these costs were already included in the direct materials costs field. We have also made adjustments to hot-rolled coil costs, conversion costs, and other material costs based on our verification findings.

In addition, based on the results of verification and the minor corrections reported by Saha Thai at verification, there are changes to the sales databases including changes to U.S. sales ship dates and certain U.S. and home market movement and selling expenses, and the correction of one reseller's home market prices. These adjustments are discussed in detail in the Decision Memorandum; and/or Memorandum to File from Myrna Lobo, “Analysis of Saha Thai Steel Pipe (Public) Company, Ltd., for the Final Results of the Antidumping Duty Administrative Review of Circular Welded Carbon Steel Pipes and Tubes from Thailand for the period 03/01/2008 through 02/28/2009,” dated concurrently with this notice (“Final Results Analysis Memorandum”); and/or Memorandum to Neal M. Halper, Director, Office of Accounting, from Heidi K. Schriefer, Senior Accountant, “Cost of Production and Constructed Value Calculation Adjustments for the Final Results—Saha Thai Steel Pipe (Public) Company, Ltd.,” also dated concurrently with this notice, all of which are on file in the CRU.

Level of Trade (LOT)

In the Preliminary Results we determined that Saha Thai had two distinct levels of trade (LOT 1 and LOT 2) in the home market, and a single LOT in the U.S. market which matched LOT 1 in the home market. For U.S. sales for which there is not a match in the home market at LOT 1, that are matched with LOT 2 sales, we must consider whether an LOT adjustment is warranted when the difference in LOT is demonstrated to affect price comparability, based on a pattern of consistent price differences. However, our decision to apply the quarterly cost methodology raised a novel issue with respect to the LOT analysis of pattern of price differences and any possible LOT adjustment based on that analysis. We therefore invited parties to comment on this issue and we received comments from Saha Thai recommending that the Department calculate a POR-wide LOT adjustment even when a quarterly methodology had been used to calculate costs and make price to price comparisons. However, after incorporating all the changes to the cost and sales information necessitated by verification, we find that all of Saha Thai's U.S. market sales are matched to sales in the home market at the same level of trade. Therefore, there is no basis for conducting a level of trade analysis and an LOT adjustment is unwarranted.

Final Results of Review

As a result of our review, we determine that the following weighted-average margin exists for the period of March 1, 2008 through February 28, 2009:

Manufacturer/ exporter | Weighted-average margin (percent)
Saha Thai Steel Pipe (Public) Company, Ltd | 2.13

Assessment Rates

The Department shall determine, and U.S. Customs and Border Protection (CBP) shall assess, antidumping duties on all appropriate entries. Pursuant to 19 CFR 351.212(b)(1) of the Department's regulations, the Department calculates an assessment rate for each importer of the subject merchandise. The Department intends to issue appropriate assessment instructions directly to CBP 15 days after the date of publication of these final results of review.

The Department clarified its “automatic assessment” regulation on May 6, 2003 (68 FR 23954). This clarification will apply to entries of subject merchandise during the period of review produced by the company included in these final results of review for which the reviewed company did not know their merchandise was destined for the United States. In such instances, we will instruct CBP to liquidate unreviewed entries at the all-others rate from the investigation if there is no rate for the intermediate company involved in the transaction. For a full discussion of this clarification, see Antidumping and Countervailing Duty Proceedings: Assessment of Antidumping Duties, 68 FR 23954 (May 6, 2003).

Cash Deposit Requirements

The following deposit requirements will be effective upon publication of the final results of this administrative review for all shipments of subject merchandise entered, or withdrawn from warehouse, for consumption on or after the publication date of these final results, as provided by section 751(a)(2)(C) of the Act: (1) For the company covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and, (4) if neither the exporter nor the producer is a firm covered in this review or in any previous segment of this proceeding, the cash deposit rate will be 15.67 percent, the all-others rate established in the less than fair value investigation. See Circular Welded Carbon Steel Pipes and Tubes from Thailand: Final Determination of Sales at Less Than Fair Value, 51 FR 3384 (January 27, 1986).

Notification to Importers

This notice also serves as a final reminder to importers of their responsibility under 19 CFR 351.402(f) of the Department's regulations to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305(a)(3) of the Department's regulations. Timely written notification of the return or destruction of APO materials or conversion to judicial protective order is hereby requested. Failure to comply with the regulations and the terms of an APO is a sanctionable violation.

We are issuing and publishing these final results and this notice in accordance with sections 751(a)(1) and 777(i)(1) of the Act.

Dated: October 13, 2010.
Ronald K. Lorentzen,
Deputy Assistant Secretary for Import Administration.

Appendix I—Issues in Decision Memorandum Circular Welded Carbon Steel Pipes and Tubes From Thailand Final Results of Antidumping Duty Administrative Review for the Period of Review: 3/1/2008—2/28/2009

Comment 1: Analysis of Transactions With an Affiliated Supplier

Comment 2: Treatment of Unpaid Exempted Duties

Comment 3: Use of Single Average Coil Costs

Comment 4: Use of Lower of Cost or Market (LCM) Write-Down for Raw Materials

Comment 5: Treatment of LCM Write-Downs When Using the Alternative Cost Methodology

Comment 6: Annualizing Costs Over the Entire Cost Reporting Period

Comment 7: Total Cost Reconciliation

Comment 8: Treatment of Paid Import Duties on Raw Materials

Comment 9: Treatment of Other Material Costs

Comment 10: Level of Trade Adjustment

Comment 11: Use of the Zeroing Methodology

[FR Doc. 2010-26424 Filed 10-19-10; 8:45 am]

BILLING CODE 3510-DS-P